DEPARTMENT OF ENERGY

Federal Energy Regulatory Commission

[Docket No. ES01-1-000, et al.]

Central Illinois Light Company, et al.; Electric Rate and Corporate Regulation Filings

October 5, 2000.

Take notice that the following filings have been made with the Commission:

1. Central Illinois Light Company

[Docket No. ES01-1-000]

Take notice that on October 3, 2000, Central Illinois Light Company submitted an application pursuant to section 204 of the Federal Power Act seeking authorization to issue, from time to time between November 1, 2000, and October 31, 2002, short-term debt obligations in an aggregate principal amount not to exceed $150 million at any one time and with final maturities of not later than October 31, 2003.

Comment date: October 24, 2000, in accordance with Standard Paragraph E at the end of this notice.

2. Edison Sault Electric Company

[Docket No. ES01-2-000]

Take notice that on October 3, 2000, Edison Sault Electric Company submitted an application pursuant to section 204 of the Federal Power Act seeking authorization to issue not more than $50 million of long-term and/or short-term secured and unsecured debt to its parent corporation, Wisconsin Energy Corporation and other third-party lenders, over a two-year period.

Edison Sault Electric Company also seeks a waiver of the Commission's competitive bidding and negotiated placement requirements in 18 CFR 34.2.

Comment date: October 23, 2000, in accordance with Standard Paragraph E at the end of this notice.

3. FirstEnergy Operating Companies American Transmission Systems, Inc.

[Docket Nos. ER99-2609-005 ER99-2647-002]

Take notice that on September 29, 2000, the FirstEnergy Operating Companies (FirstEnergy) and American Transmission Systems, Inc. (ATSI), tendered for filing a notice of cancellation of FirstEnergy's Open Access Transmission Tariff, and a service agreement under which FirstEnergy becomes a customer of ATSI for network integration transmission service. FirstEnergy and ATSI state that the filing is made to implement provisions in the Stipulation and Agreement approved by FERC on March 16, 2000 in the above-referenced dockets.

FirstEnergy and ATSI state further that they have served the filing on all parties to the proceeding.

Comment date: October 20, 2000, in accordance with Standard Paragraph E at the end of this notice.

4. Ameren Services Company

[Docket No. ER01-1-000]

Take notice that on October 2, 2000, Ameren Services Company (ASC), tendered for filing Service Agreements for Long-Term Firm Point-to-Point Transmission Services between ASC and Ameren Energy, as Agent for Ameren Services Company and Reliant Energy Services, Inc. ASC asserts that the purpose of the Agreements is to permit ASC to provide transmission service to the parties pursuant to Ameren's Open Access Transmission Tariff.

Comment date: October 23, 2000, in accordance with Standard Paragraph E at the end of this notice.

5. The Detroit Edison Company

[Docket No. ER01-2-000]

Take notice that on October 5, 2000, The Detroit Edison Company (Detroit Edison), tendered for filing Service Agreements (Service Agreements) for Short Term Firm and Non-Firm Point-to-Point Transmission Service under the Open Access Transmission Tariff of Detroit Edison, FERC Electric Tariff No. 1. These Service Agreements are between Detroit Edison and Cinergy Services, Inc., dated as of August 29, 2000. The parties have not engaged in any transactions under the Service Agreements prior to thirty days to this filing.

Also Detroit Edison tenders for filing Service Agreements (Service Agreements) for Short-term Firm Point-to-Point Transmission Service under the Joint Open Access Transmission Tariff of Consumers Energy Company and Detroit Edison, FERC Cinergy Services, Inc., dated as of August 29, 2000.

Detroit Edison requests that the Service Agreements be made effective as rate schedules as of September 29, 2000.

The parties have not engaged in any transactions under the Service Agreements prior to thirty days to this filing.

Comment date: October 23, 2000, in accordance with Standard Paragraph E at the end of this notice.

6. The Detroit Edison Company

[Docket No. ER01-3-000]

Take notice that on October 2, 2000, The Detroit Edison Company (Detroit Edison), tendered for filing a Service Agreement (Service Agreement) for Firm Point-to-Point Transmission Service under the Joint Open Access Transmission Tariff of Consumers Energy Company and Detroit Edison, FERC Electric Tariff No. 1. The Service Agreement is between Detroit Edison and DTE Energy Marketing, dated as of August 3, 2000.

Also Detroit Edison tenders for filing a Service Agreement (Service Agreement) for Firm Point-to-Point Transmission Service under the Open Access Transmission Tariff of Detroit Edison, FERC Electric Tariff No. 1. This Service Agreement is between Detroit Edison and DTE Energy Marketing, dated as of August 3, 2000.

The parties have not engaged in any transactions under the Service Agreements prior to thirty days to this filing. Detroit Edison requests that the Service Agreements be made effective as rate schedules as of September 5, 2000.

Comment date: October 23, 2000, in accordance with Standard Paragraph E at the end of this notice.

7. The Detroit Edison Company

[Docket No. ER01-4-000]

Take notice that on October 2, 2000, The Detroit Edison Company (Detroit Edison), tendered for filing Service Agreements (Service Agreement) for Short Term Firm and Non-Firm Point-to-Point Transmission Service under the Open Access Transmission Tariff of Detroit Edison, FERC Electric Tariff No. 1. This Service Agreement is between Detroit Edison and Connectiv Energy Supply, dated as of July 19, 2000.

Also Detroit Edison tenders for filing a Service Agreement (Service Agreement) for Firm Point-to-Point Transmission Service under the Joint Open Access Transmission Tariff of Consumers Energy Company and Detroit Edison, FERC Electric Tariff No. 1. The Service Agreement is between Detroit Edison and Connectiv Energy Supply, Inc., dated as of July 19, 2000.

The parties have not engaged in any transactions under the Service Agreements prior to thirty days to this filing. Detroit Edison requests that the Service Agreements be made effective as rate schedules as of August 18, 2000.

Comment date: October 23, 2000, in accordance with Standard Paragraph E at the end of this notice.

8. The Detroit Edison Company

[Docket No. ER01-5-000]

Take notice that on October 2, 2000, The Detroit Edison Company (Detroit Edison), tendered for filing Service Agreements (Service Agreements) for Short-term Firm and Non-Firm Point-to-Point Transmission Service under the Joint Open Access Transmission Tariff of Consumers Energy Company and Detroit Edison, FERC Electric Tariff No. 1. These Service Agreements are between Detroit Edison and Rainbow Energy Marketing Corporation, dated as of August 31, 2000.

Also Detroit Edison tendered for filing Service Agreements (Service Agreements) for Short Term Firm and Non-Firm Point-to-Point Transmission Service under the Open Access Transmission Tariff of Detroit Edison, FERC Electric Tariff No. 1. These Service Agreements are between Detroit Edison and Rainbow Energy, dated as of August 31, 2000.

The parties have not engaged in any transactions under the Service Agreements prior to thirty days to this filing. Detroit Edison requests that the Service Agreements be made effective as rate schedules as of September 29, 2000.

Comment date: October 23, 2000, in accordance with Standard Paragraph E at the end of this notice.

9. Puget Sound Energy, Inc.

[Docket No. ER01-6-000]

Take notice that on October 2, 2000, Puget Sound Energy, Inc., as Transmission Provider, tendered for filing a Service Agreement for Firm Point-To-Point Transmission Service and a Service Agreement for Non-Firm Point-To-Point Transmission Service with Sacramento Municipal Utility District (SMUD) as Transmission Customer.

A copy of the filing was served upon SMUD.

Comment date: October 23, 2000, in accordance with Standard Paragraph E at the end of this notice.

10. Ameren Energy Marketing Company

[Docket No. ER01-7-000]

Take notice that on October 2, 2000, Ameren Energy Marketing Company (AEM), pursuant to Section 205 of the Federal Power Act (FPA), 16 U.S.C. § 824d, and the market-based rate authority provided to it by the Commission, Ameren Energy Marketing Company (AEM) filed an amendment to an existing Electric Service Agreement with Soyland Power Cooperative, Inc., currently on file with the FERC.

Comment date: October 23, 2000, in accordance with Standard Paragraph E at the end of this notice.

11. Jersey Central Power & Light Company, Metropolitan Edison Company, and Pennsylvania Electric Company

[Docket No. ER01-8-000]

Take notice that on October 2, 2000, Jersey Central Power & Light Company, Metropolitan Edison Company and Pennsylvania Electric Company (individually doing business as GPU Energy), tendered for filing a Notice of Cancellation of the Service Agreement between GPU Service Corporation and Associated Power Services, Inc. (now PanCanadian Energy Services Inc.), FERC Electric Tariff, Original Volume No. 1, Service Agreement No. 35.

GPU Energy requests that cancellation be effective November 29, 2000.

Comment date: October 23, 2000, in accordance with Standard Paragraph E at the end of this notice.

12. Jersey Central Power & Light Company, Metropolitan Edison Company, and Pennsylvania Electric Company

[Docket No. ER01-9-000]

Take notice that on October 2, 2000, Jersey Central Power & Light Company, Metropolitan Edison Company and Pennsylvania Electric Company (individually doing business as GPU Energy), tendered for filing a Notice of Cancellation of the Service Agreement between GPU Service Corporation and Citizens Lehman Power Sales (now Citizens Power LLC), FERC Electric Tariff, Original Volume No. 1, Service Agreement No. 18.

GPU Energy requests that cancellation be effective November 29, 2000.

Comment date: October 23, 2000, in accordance with Standard Paragraph E at the end of this notice.

13. Jersey Central Power & Light Company, Metropolitan Edison Company, and Pennsylvania Electric Company

[Docket No. ER01-10-000]

Take notice that on October 2, 2000, Jersey Central Power & Light Company, Metropolitan Edison Company and Pennsylvania Electric Company (individually doing business as GPU Energy), tendered for filing a Notice of Cancellation of the Service Agreement between GPU Service Corporation and Coastal Electric Services Company, FERC Electric Tariff, Original Volume No. 1, Service Agreement No. 30.

GPU Energy requests that cancellation be effective November 29, 2000.

Comment date: October 23, 2000, in accordance with Standard Paragraph E at the end of this notice.

14. Jersey Central Power & Light Company, Metropolitan Edison Company, and Pennsylvania Electric Company

[Docket No. ER01-11-000]

Take notice that on October 2, 2000, Jersey Central Power & Light Company, Metropolitan Edison Company and Pennsylvania Electric Company (individually doing business as GPU Energy), tendered for filing a Notice of Cancellation of the Service Agreement between GPU Service Corporation and AES Power, Inc., FERC Electric Tariff, Original Volume No. 1, Service Agreement No. 39.

GPU Energy requests that cancellation be effective November 29, 2000.

Comment date: October 23, 2000, in accordance with Standard Paragraph E at the end of this notice.

15. Jersey Central Power & Light Company, Metropolitan Edison Company, and Pennsylvania Electric Company

[Docket No. ER01-12-000]

Take notice that on October 2, 2000, Jersey Central Power & Light Company, Metropolitan Edison Company and Pennsylvania Electric Company (individually doing business as GPU Energy), tendered for filing a Notice of Cancellation of the Service Agreement between GPU Service Corporation and Koch Power Services (now Koch Energy Trading, Inc.), FERC Electric Tariff, Original Volume No. 1, Service Agreement No. 26.

GPU Energy requests that cancellation be effective November 29, 2000.

Comment date: October 23, 2000, in accordance with Standard Paragraph E at the end of this notice.

16. Jersey Central Power & Light Company, Metropolitan Edison Company, and Pennsylvania Electric Company

[Docket No. ER01-13-000]

Take notice that on October 2, 2000, Jersey Central Power & Light Company, Metropolitan Edison Company and Pennsylvania Electric Company (individually doing business as GPU Energy), tendered for filing a Notice of Cancellation of the Service Agreement between GPU Service Corporation and Electric Clearinghouse, Inc., FERC Electric Tariff, Original Volume No. 1, Service Agreement No. 10.

GPU Energy requests that cancellation be effective November 29, 2000.

Comment date: October 23, 2000, in accordance with Standard Paragraph E at the end of this notice.

17. Ameren Energy Marketing Company, Union Electric Company d/b/a AmerenUE

[Docket No. ER01-14-000]

Take notice that on October 2, 2000, Ameren Energy Marketing Company (AEM), pursuant to Section 205 of the Federal Power Act (FPA), 16 U.S.C. § 824d, and Part 35 of the Federal Energy Regulatory Commission's (FERC or Commission) Regulations issued thereunder, 18 CFR 35, tendered for filing an agreement with Union Electric Company d/b/a AmerenUE (AmerenUE) allowing for the substitution of AEM as the contracting party under certain jurisdictional agreements.

AEM seeks an effective date of September 1, 2000, for this agreement.

Comment date: October 23, 2000, in accordance with Standard Paragraph E at the end of this notice.

18. The United Illuminating Company

[Docket No. ER01-15-000]

Take notice that on October 2, 2000, The United Illuminating Company (UI) tendered for filing an Interconnection Agreement with Quinnipiac Energy LLC.

UI requests an effective date of October 2, 2000.

UI states that a copy of this filing has been sent to Quinnipiac Energy.

Comment date: October 23, 2000, in accordance with Standard Paragraph E at the end of this notice.

19. Arizona Public Service Company

[Docket No. ER01-31-000]

Take notice that on October 2, 2000, Arizona Public Service Company (the Company), tendered for filing an informational report on refunds of over-billed amounts to certain wholesale customers through the Company's FERC Fuel Adjustment Clause.

Copies of this filing have been served upon the affected parties as follows:

Customer Name | APS-FPC/FERC Rate
Schedule
Electrical District No. 3 (ED-3) | 12.
Wellton-Mohawk Irrigation and Drainage District (Wellton-Mohawk) | 58.
Electrical District No. 1 (ED-1) | 68.
Town of Wickenburg (Wickenburg) | 74, APS-FERC Electric Tariff Vol No. 3.
Southern California Edison Company (SCE) | 120.
City of Williams (Williams) | 192.
San Carlos Indian Irrigation Project (SCIIP) | 201.
Electrical District No. 6 (ED-6) | APS-FERC Electric Tariff Vol No. 3.
Electrical District No. 7 (ED-7) | APS-FERC Electric Tariff Vol No. 3.
Electrical District No. 8 (ED-8) | APS-FERC Electric Tariff Vol No. 3.
Aguila Irrigation District (AID) | APS-FERC Electric Tariff Vol No. 3.
McMullen Valley Water Conservation and Drainage District (MVD) | APS-FERC Electric Tariff Vol No. 3.
Tonopah Irrigation District (TID) | APS-FERC Electric Tariff Vol No. 3.
Harquahala Valley Power District (HVPD) | APS-FERC Electric Tariff Vol No. 3.
Buckeye Water Conservation and Drainage District (Buckeye) | APS-FERC Electric Tariff Vol No. 3.
Roosevelt Irrigation District (RID) | APS-FERC Electric Tariff Vol No. 3.
Maricopa County Municipal Water Conservation District (MCMWCD) | APS-FERC Electric Tariff Vol No. 3.
City of Williams (Williams) the California Public Utilities Commission and the Arizona Corporation Commission | APS-FERC Electric Tariff Vol No. 3.

Comment date: October 23, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-26283 Filed 10-12-00; 8:45 am]

BILLING CODE 6717-01-P